DEPARTMENT OF THE INTERIOR

National Park Service

[NPS-WASO-NAGPRA-NPS0030351; PPWOCRADN0-PCU00RP14.R50000]

Notice of Intent To Repatriate Cultural Items: Federal Bureau of Investigation, Art Theft Program, Washington, DC

AGENCY: National Park Service, Interior.

ACTION: Notice.

SUMMARY: The Federal Bureau of Investigation (FBI), in consultation with the appropriate Indian Tribes or Native Hawaiian organizations, has determined that the cultural items listed in this notice meets the definition of sacred objects. Lineal descendants or representatives of any Indian Tribe or Native Hawaiian organization not identified in this notice that wish to claim these cultural items should submit a written request to the FBI. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the FBI at the address in this notice by July 10, 2020.

ADDRESSES: Federal Bureau of Investigation, FBI Headquarters, Attn: Supervisory Special Agent Timothy Carpenter, Art Theft Program, 935 Pennsylvania Avenue NW, Washington, DC 20535, telephone (954) 931-3670, email artifacts@ic.fbi.gov.

SUPPLEMENTARY INFORMATION: Notice is here given in accordance with the Native American Graves Protection and Repatriation Act (NAGPRA), 25 U.S.C. 3005, of the intent to repatriate cultural items under the control of the Federal Bureau of Investigation, Washington, DC, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

“From time immemorial, the Nihookaa' Dine'e Bila' Ashdla'ii has been tied to the aboriginal landscape” through their oral ceremonial histories (Navajo Nation Heritage and Historic Preservation Department, 2019). Today, the Navajo Nation covers some 27,000 square miles extending from Utah into Arizona and New Mexico. At an unknown date, 11 sacred objects were acquired in the Southwest and transported to the East Coast, where they remained part of a private collection of Native American antiquities, art and cultural heritage. In the spring of 2018, these items were seized by the FBI as part of a criminal investigation. Regional archeologists from museums and universities helped identify the American Southwest origin of the items. Subsequent face-to-face consultation conducted in Albuquerque, New Mexico on April 13, 2019, with the Navajo Nation's Tribal Historic Preservation Officer/Department Manager and other representatives of the Navajo Nation's Heritage and Historic Preservation Department showed the items to be culturally affiliated with the Navajo Nation, Arizona, New Mexico & Utah, and their identity as specific ceremonial objects that had been erroneously identified by the collector as masks.

Determinations Made by the Federal Bureau of Investigation

Officials of the Federal Bureau of Investigation have determined that:

• Pursuant to 25 U.S.C. 3001(3)(C), the 11 cultural items described above are specific ceremonial objects needed by traditional Native American religious leaders for the practice of traditional Native American religions by their present-day adherents.

• Pursuant to 25 U.S.C. 3001(2), there is a relationship of shared group identity that can be reasonably traced between the sacred objects and the Navajo Nation, Arizona, New Mexico & Utah.

Additional Requestors and Disposition

Lineal descendants or representatives of any Indian Tribe or Native Hawaiian organization not identified in this notice that wish to claim these cultural items should submit a written request with information in support of the claim to Federal Bureau of Investigation, FBI Headquarters, Attn: Supervisory Special Agent Timothy Carpenter, Art Theft Program, 935 Pennsylvania Avenue NW, Washington, DC 20535, telephone (954) 931-3670, email artifacts@ic.fbi.gov, by July 10, 2020. After that date, if no additional claimants have come forward, transfer of control of the sacred items to the Navajo Nation, Arizona, New Mexico & Utah may proceed.

The Federal Bureau of Investigation is responsible for notifying the Navajo Nation, Arizona, New Mexico & Utah that this notice has been published.

Dated: May 15, 2020.
Melanie O'Brien,
Manager, National NAGPRA Program.

[FR Doc. 2020-12548 Filed 6-9-20; 8:45 am]

BILLING CODE 4312-52-P